DEPARTMENT OF COMMERCE

Foreign-Trade Zones Board

[Docket 52-2003]

Foreign-Trade Zone 7—Puerto Rico; Application for Expansion

An application has been submitted to the Foreign-Trade Zones (FTZ) Board (the Board) by the Puerto Rico Industrial Development Company (PRIDCO), a governmental instrumentality of the Commonwealth of Puerto Rico and grantee of Foreign-Trade Zone 7, requesting authority to expand its zone to include five additional sites in Puerto Rico. The application was submitted pursuant to the provisions of the Foreign-Trade Zones Act, as amended (19 U.S.C. 81a-81u), and the regulations of the Board (15 CFR Part 400). It was formally filed on October 2, 2003.

FTZ 7 was approved on June 27, 1960 (Board Order 50, 25 FR 6311, 7/2/60) and expanded on June 28, 1968 (Board Order 76, 33 FR 10029, 7/12/68), November 16, 1972 (Board Order 91, 37 FR 24853, 11/22/72), and January 20, 1999 (Board Order 1020, 64 FR 5765, 2/5/99). The general-purpose zone currently consists of multiple sites which are part of PRIDCO's Industrial Park System.

The applicant is now requesting authority to expand the FTZ to include five additional sites which are not associated with PRIDCO's Industrial Park System. All of these sites are industrial-park or public-warehouse types of facilities that will be available for general-purpose activities to parties requiring FTZ procedures:

# 1—“Public Warehouse in Guaynabo,” to include 1.54 acres located at Amelia Industrial Park, Diana Street, Lot # 27, Guaynabo;

# 2—“Distribution Warehouse Center in Cataño,” to include 8.96 acres located on State Road 869 in Palmas Ward, Cataño;

# 3—“Distribution Center for the Caribbean in Cataño,” to include 16.75 acres located at Kennedy Avenue Km. 3.2, Cataño;

# 4—“Distribution Center in San Juan/Río Piedras,” to include 2.94 acres located at State Road # 1 Km. 26.9, Río Cañas Ward, Río Piedras; and

# 5—“Industrial Park in Toa Baja,” to include 40.1 acres located at State Road # 865 Km. 4.9, Toa Baja.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is December 9, 2003. Rebuttal comments in response to material submitted during the foregoing period may be submitted during the subsequent 15-day period to December 24, 2003.

A copy of the application and accompanying exhibits will be available for public inspection at the Office of the Foreign-Trade Zones Board's Executive Secretary at address Number 1 listed above, and at the U.S. Department of Commerce Export Assistance Center, Midtown Building, 10th Floor, 420 Ponce de Leon Avenue, San Juan, PR 00918.

Dated: October 2, 2003.
Dennis Puccinelli,
Executive Secretary.

[FR Doc. 03-25775 Filed 10-9-03; 8:45 am]

BILLING CODE 3510-DS-P